NUCLEAR WASTE TECHNICAL REVIEW BOARD

Board Meeting

March 27, 2018—The U.S. Nuclear Waste Technical Review Board will meet in Washington, DC to discuss performance confirmation monitoring and retrievability of emplaced high-level radioactive waste and spent nuclear fuel.

Pursuant to its authority under section 5051 of Public Law 100-203, Nuclear Waste Policy Amendments Act (NWPAA) of 1987, the U.S. Nuclear Waste Technical Review Board will hold a public meeting in Washington, DC on Tuesday, March 27, 2018, to review information related to operational and performance confirmation monitoring of a geologic repository and retrievability of emplaced high-level radioactive waste (HLW) and spent nuclear fuel (SNF).

The Board meeting will be held at the Embassy Suites DC Convention Center, 900 10th Street NW, Washington, DC 20001. A block of rooms has been reserved for meeting attendees at a rate of $253.00 per night. Reservations may be made by phone (1-202-739-2001, refer to NWTRB meeting). Reservations must be made by March 5, 2018, to ensure receiving the meeting rate for available rooms.

The meeting will begin at 8:00 a.m. on Tuesday, March 27, 2018, and is scheduled to adjourn at 5:00 p.m. Representatives from several countries will discuss national policies and approaches to monitoring and retrievability. Technical specialists will discuss sensors and technologies for monitoring subsurface seepage, in-drift environmental conditions, and corrosion of waste packages for HLW and SNF emplaced in a geologic repository. A detailed meeting agenda will be available on the Board's website at www.nwtrb.gov approximately one week before the meeting.

The meeting will be open to the public, and opportunities for public comment will be provided before the lunch break and at the end of the day. Those wanting to speak are encouraged to sign the “Public Comment Register” at the check-in table. Depending on the number of people who sign up to speak, it may be necessary to set a time limit on individual remarks. However, written comments of any length may be submitted, and all comments received in writing will be included in the record of the meeting, which will be posted on the Board's website after the meeting. The meeting will be webcast, and the link to the webcast will be available on the Board's website (www.nwtrb.gov) a few days before the meeting. The meeting presentations and an archived version of the webcast will be available on the Board's website following the meeting. The transcript of the meeting will be available on the Board's website no later than May 25, 2018.

The Board was established in the NWPPA of 1987 as an independent federal agency in the Executive Branch to evaluate the technical and scientific validity of DOE activities related to the management and disposal of SNF and HLW and to provide objective expert advice to Congress and the Secretary of Energy on these issues. Board members are experts in their fields and are appointed to the Board by the President from a list of candidates submitted by the National Academy of Sciences. The Board reports its findings, conclusions, and recommendations to Congress and the Secretary of Energy. All Board reports, correspondence, congressional testimony, and meeting transcripts and related materials are posted on the Board's website.

For information on the meeting agenda, contact Daniel Metlay: metlay@nwtrb.gov or Karyn Severson: severson@nwtrb.gov. For information on lodging and logistics, or to request copies of the meeting agenda or transcript, contact Davonya Barnes: barnes@nwtrb.gov. All three can be reached by mail at 2300 Clarendon Boulevard, Suite 1300, Arlington, VA 22201-3367; by telephone at 703-235-4473; or by fax at 703-235-4495.

Dated: February 6, 2018.
Nigel Mote,
Executive Director, U.S. Nuclear Waste Technical Review Board.

[FR Doc. 2018-02883 Filed 2-12-18; 8:45 am]

BILLING CODE 6820-AM-P